DEPARTMENT OF HOUSING AND URBAN DEVELOPMENT

[Docket No. FR-5830-N-02]

Notice of Emergency Information Collection and Request for Comment: Assessment of Technology Needs in HUD-Subsidized Housing

AGENCY: Office of the General Counsel, HUD.

ACTION: Notice.

SUMMARY: Through this notice, and in accordance with the Paperwork Reduction Act of 1995, HUD invites comment on a proposed information collection for the purpose of helping HUD assess technology needs, such as access to high-speed Internet, in HUD-subsidized housing. HUD is requesting emergency processing of this request because philanthropic foundations, nonprofit organizations, private sector entities, and others have expressed interest in helping residents housed with HUD assistance to narrow their technology infrastructure and digital literacy gaps. The questions included in the information collection will enable HUD to assess the technology needs of residents housed with HUD assistance, the commitment of communities and Public Housing Agencies (PHAs) to narrowing these technology gaps, and the capacity of such jurisdictions to successfully utilize the type of assistance that is being offered. The earlier that HUD can obtain this information, the earlier that HUD may be able to benefit from the generosity of the various organizations that have offered assistance.

DATES: Comment Due Date: May 22, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Assessment of Technology Needs in HUD-Subsidized Housing.

OMB Approval Number: Pending.

Type of Request: New.

Form Number: Pending.

Description of the need for the information and proposed use: This assessment will provide the data necessary to inform subsequent conversations with communities and Public Housing Agencies (PHAs) on the technology needs of residents housed with HUD assistance. The data will also inform the design and implementation of assistance efforts to narrow the technology infrastructure and digital literacy gaps in such housing, such as the absence of access to high-speed Internet. The standardized questions cover broad areas of relevance to assessing the technology needs of communities and PHAs, including: (1) Demographics of the populations served (including such factors as age, income, and education); (2) physical and technological infrastructure in the subsidized housing or that could be made available by the jurisdiction; and (3) potential use of federal and local resources to address the technology needs if these resources were made available. In addition, the assessment provides for communities and PHAs to provide any information pertaining to these topic areas that they may wish to note and that is not covered by the standardized questions, which would help better identify their technology needs.

Respondents (i.e. affected public): Communities (i.e., city, tribal nation, or other target area) and PHAs.

Estimated Number of Respondents: 3400.

Estimated Number of Responses: 50.

Frequency of Response: Once.

Average Hours per Response: Three hours.

Total Estimated Burdens: 450 hours.

Information collection | Number of respondents | Frequency of response | Responses per annum | Burden hour per response | Annual burden hours | Hourly cost per response | Annual cost
Demographics | 3,400 | once | 50 | 1 | 1 | 0 | 0
Physical and Technology Infrastructure | 3,400 | once | 50 | 1 | 1 | 0 | 0
Potential uses of federal and local resources | 3,400 | once | 50 | 1 | 1 |  |
Totals | 3,400 | once | 150 | 3 | 3 | 0 | 0

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 12, 2015.
Camille E. Acevedo,
Associate General Counsel for Legislation and Regulations.

[FR Doc. 2015-11806 Filed 5-14-15; 8:45 am]

BILLING CODE 4210-67-P